DEPARTMENT OF THE INTERIOR

National Park Service

[NPS-WASO-NAGPRA-12450; PCU00RP14.R50000-PPWOCRADN0]

Notice of Intent To Repatriate Cultural Items: Yale Peabody Museum of Natural History, New Haven, CT

AGENCY: National Park Service, Interior.

ACTION: Notice.

SUMMARY: The Yale Peabody Museum of Natural History, in consultation with the appropriate Indian tribes, has determined that the cultural items meet the definition of unassociated funerary objects, and repatriation to the Indian tribes stated below may occur if no additional claimants come forward. Representatives of any Indian tribe that believes itself to be culturally affiliated with the cultural items may contact the Yale Peabody Museum of Natural History.

DATES: Representatives of any Indian tribe that believes it has a cultural affiliation with the cultural items should contact the Yale Peabody Museum of Natural History at the address below by April 29, 2013.

ADDRESSES: Professor Derek E.G. Briggs, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate cultural items in the possession of the Yale Peabody Museum of Natural History that meets the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1871, three unassociated funerary objects were recovered from Memaloose Island, OR, by the Yale College Scientific Expedition. The objects were transferred to the Yale Peabody Museum of Natural History in 1873 by Oscar Harger, a student of the Expedition. These objects include a wooden bowl, a stone mortar, and a wooden comb. Catalog records and historic documentation indicate the objects were recovered from Native American graves and therefore meet the definition of unassociated funerary objects. The objects were recovered within the traditional territory of the Confederated Tribes and Bands of the Yakama Nation and the Confederated Tribes of the Warm Springs Reservation of Oregon.

Sometime prior to 1902, two unassociated funerary objects were removed from The Dalles, Wasco County, OR, by an unknown person. The objects were transferred to the Yale Peabody Museum of Natural History in 1902 by Mr. and Mrs. William H. Moseley of New Haven, CT. Catalog records indicate the two objects, a string of rolled metal tube beads and a string of shell beads, were recovered from Native American graves and therefore meet the definition of unassociated funerary objects. The objects were recovered within the traditional territory of the Confederated Tribes and Bands of the Yakama Nation and the Confederated Tribes of the Warm Springs Reservation of Oregon.

Based on museum catalog records of the objects, the geographic origin of the objects, and the description of traditional territory of the tribes, these objects are believed to be culturally affiliated with the Confederated Tribes and Bands of the Yakama Nation and the Confederated Tribes of the Warm Springs Reservation of Oregon.

Determinations Made by the Yale Peabody Museum of Natural History

Officials of the Yale Peabody Museum of Natural History have determined that:

• Pursuant to 25 U.S.C. 3001(3)(B), the five cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes and Bands of the Yakama Nation and the Confederated Tribes of the Warm Springs Reservation of Oregon.

Additional Requestors and Disposition

Representatives of any other Indian tribe that believes itself to be culturally affiliated with the unassociated funerary objects should contact Professor Derek E.G. Briggs, Director, Yale Peabody Museum of Natural History, P.O. Box 208118, New Haven, CT 06520-8118, telephone (203) 432-3752 before April 29, 2013. Repatriation of the unassociated funerary objects to the Confederated Tribes and Bands of the Yakama Nation and the Confederated Tribes of the Warm Springs Reservation of Oregon may proceed after that date if no additional claimants come forward.

The Yale Peabody Museum of Natural History is responsible for notifying the Confederated Tribes and Bands of the Yakama Nation and the Confederated Tribes of the Warm Springs Reservation of Oregon that this notice has been published.

Dated: February 26, 2013.
Melanie O'Brien,
Acting Manager, National NAGPRA Program.

[FR Doc. 2013-07352 Filed 3-28-13; 8:45 am]

BILLING CODE 4312-50-P